NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: NRC Form 4, “Cumulative Occupational Dose History” and NRC Form 5, “Occupational exposure record for a Monitoring Period”.

2. Current OMB approval numbers:

NRC Form 4 (3150-0005).

NRC form 5 (3150-0006).

3. How often the collection is required: NRC Form 4: Occasionally; NRC Form 5: Annually.

4. Who is required or asked to report: NRC licensees who are required to comply with 10 CFR Part 20.

5. The number of annual respondents: NRC Form 4: 218 (104 from reactor sites and 114 from materials licensees) and NRC Form 5: 3,994 (104 reactor sites and 114 materials licensees, plus an additional 3,176 materials licensees recordkeepers).

6. The number of hours needed annually to complete the requirement or request: An estimate of the total number of hours needed annually to complete the requirement or request: NRC Form 4: 10,012 hours on an average of 0.5 hours per response; NRC Form 5: 65,618 hours (56,898 hours for recordkeeping on an average of 0.33 hours per record and 8,720 hours for reporting on an average of 40 hours per licensee).

7. Abstract: NRC Form 4 is used to record the summary of an individual's cumulative occupational radiation dose up to and including the current year to ensure that the dose does not exceed regulatory limits.

NRC Form 5 is used to record and report the results of individual monitoring for occupational radiation exposure during a one-year (calendar year) period to ensure regulatory compliance with annual radiation dose limits.

Submit, by July 6, 2007, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by Internet electronic mail to INFOCOLLECTS@NRC.GOV.

Dated at Rockville, Maryland, this 30th day of April, 2007.
For the Nuclear Regulatory Commission.
Margaret A. Janney,
NRC Clearance Officer, Office of Information Services.

[FR Doc. E7-8675 Filed 5-4-07; 8:45 am]

BILLING CODE 7590-01-P